DEPARTMENT OF ENERGY

Federal Energy Regulatory Commission

[Docket Nos. EG03-9-000, et al.]

Twelvepole Creek, LLC, et al.; Electric Rate and Corporate Filings

October 30, 2002.

The following filings have been made with the Commission. The filings are listed in ascending order within each docket classification.

1. Twelvepole Creek, LLC

[Docket No. EG03-9-000]

Take notice that on October 28, 2002, Twelvepole Creek, LLC (Twelvepole Creek) tendered for filing an application for a new determination of exempt wholesale generator status, pursuant to section 32(a)(1) of the Public Utility Holding Company Act of 1935, as amended, (PUHCA), 15 U.S.C. 79z-5a(a)(1) (2000), and Section 365.8 of the regulations of the Federal Energy Regulatory Commission (Commission), 18 CFR 365.8.

Twelvepole Creek is a Delaware limited liability company that leases and operates an approximately 504-MW electric generating facility located in Wayne County, West Virginia. Twelvepole Creek states that it will be engaged directly, or indirectly through one or more affiliates as defined in Section 2(a)(11)(B) of PUHCA, and exclusively in the business of operating an eligible facility, and selling electric energy at wholesale.

Comment Date: November 20, 2002.

2. Edison Source

[Docket No. ER02-2563-001]

Take notice that on October 3, 2002, Edison Source tendered for filing with the Federal Energy Regulatory Commission (Commission) an amendment to its filing in the above-referenced docket concerning the termination of the PX Participation Agreement with the California Power Exchange Corporation, dated march 17, 1998, and its Addendum, dated March 17, 1998; and withdrawing Edison Source's Standing Request Relating to inter-Scheduling Coordinator Trades, dated June 5, 1998.

Edison Source requests that the above termination and withdrawal became effective October 16, 2002. Comment Date: November 12, 2002.

3. MidAmerican Energy Company

[Docket No. ER03-12-001]

Take notice that on October 28, 2002, MidAmerican Energy Company (MidAmerican), filed with the Commission a revised filing of the Electric Transmission Interconnection Agreement between Iowa Public Service Company n/k/a MidAmerican Energy Company, dated March 1, 1991, incorporating the Fifth Amendment to the Agreement, dated June 28, 2002, which was filed on October 3, 2002.

MidAmerican requests an effective date of the later of the effective date of the acceptance of this Agreement by the Commission or the approval of this Agreement, incorporating the Fifth Amendment by the Administrator of the Rural Utilities Service or the successor in interest to the Administrator, if the approval of the Administrator or such successor is required by law. MidAmerican has served a copy of the filing on the Iowa Utilities Board, the Illinois Commerce Commission and the South Dakota Public Utilities Commission. Comment Date: November 18, 2002.

4. Liberty Electric Power, LLC

[Docket No. ER03-88-000]

Take notice that on October 28, 2002 Liberty Electric Power, LLC (Liberty) tendered for filing, pursuant to section 205 of the Federal Power Act (16 U.S.C. 824d), and Part 35 of the Federal Energy Regulatory Commission Rules of Practice and Procedure, a rate schedule for reactive power to be provided to the PJM Interconnection, LLC transmission grid. Liberty requests an effective date of December 1, 2002. Comment Date: November 18, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-28304 Filed 11-5-02; 8:45 am]

BILLING CODE 6717-01-P